DEPARTMENT OF HEALTH AND HUMAN SERVICES

Office of the Secretary

Notice of Meeting: Secretary's Advisory Committee on Genetics, Health, and Society

Pursuant to Pub. L. 92-463, notice is hereby given of the seventh meeting of the Secretary's Advisory Committee on Genetics, Health, and Society (SACGHS), U.S. Public Health Service. The meeting will be held from 8:30 a.m. to 5:30 p.m. on June 15, 2005, and 8:30 a.m. to 5:30 p.m. on June 16, 2005, at the Bethesda North Marriott Hotel, 5701 Marinelli Road, North Bethesda, Maryland. The meeting will be open to the public with attendance limited to space available. The meeting will be Webcast.

The topics of the first day are expected to be genetic discrimination, direct-to-consumer marketing of genetic tests, and coverage and reimbursement of genetic tests and services. The Committee aims to finalize a report on coverage and reimbursement of genetic tests and services after considering public comments. The topics for the second day are expected to include large population studies of gene-environment interactions and pharmacogenomics. Time will be provided each day for public comments.

Under authority of 42 U.S.C. 217a, section 222 of the Public Health Service Act, as amended, the Department of Health and Human Services established SACGHS to service as a public forum for deliberations on the broad range of human health and societal issues raised by the development and use of genetic technologies and, as warranted, to provided advice on these issues. The draft meeting agenda and other information about SACGHS, including information about access to the Webcast, will be available at the following Web site: http://www4.od.nih.gov/oba/sacghs.htm.

The Committee would welcome hearing from anyone wishing to provide public comment on any issue related to genetics, health and society. Individuals who would like to provide public comment or who plan to attend the meeting and need special assistance, such as sign language interpretation or other reasonable accommodations, should notify the SACGHS Executive Secretary, Ms. Sarah Carr, by telephone at 301-496-9838 or e-mail at sc112c@nih.gov. The SACGHS office is located at 6705 Rockledge Drive, Suite 750, Bethesda, MD 20892.

Dated: April 25, 2005.
LaVerne Stringfield,
Director, Office of Federal Advisory Committee Policy.

[FR Doc. 05-8781 Filed 5-2-05; 8:45 am]

BILLING CODE 4140-01-M